DEPARTMENT OF THE INTERIOR

Bureau of Land Management

[ES-020-1320-EL]

Retraction of Notice of Intent To Prepare a Land Use Analysis/Environmental Assessment

AGENCY: Bureau of Land Management, Department of the Interior.

ACTION: Retraction of intent to prepare a land use analysis/environmental assessment (LUA/EA).

SUMMARY: The Bureau of Land Management (BLM) published two notices in the Federal Register dated February 21, 2002; both of same title. The notice on page 8033-8034 (LUA/EA for coal lease application by Southfork Coal Company) is retracted, but will be republished with errors having been corrected. The notice on page 8034 (LUA/EA for coal lease application by Chas Coal, L.L.C.) remains correct.

FOR FURTHER INFORMATION CONTACT: John A Lewis, Bureau of Land Management, 411 Briarwood Drive, Suite 404, Jackson, MS 39206; telephone (601) 977-5437.

Dated: July 23, 2002.
Duane Winters,
Acting Field Manager.

[FR Doc. 02-21069 Filed 8-19-02; 8:45 am]

BILLING CODE 4310-84-P